FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 019355F.

Name: Abad Air, Inc.

Address: 2685 Northwest 105th Avenue, Miami, FL 33178.

Date Revoked: June 28, 2007.

Reason: Failed to maintain a valid bond.

License Number: 002766F.

Name: ABB Intertrade Inc.

Address: 3628 Harden Blvd., Lakeland, FL 33803.

Date Revoked: June 29, 2007.

Reason: Failed to maintain a valid bond.

License Number: 001769F.

Name: Aid Forwarding Co., Inc.

Address: 2363 Carlton Pl., Ste. A, Costa Mesa, CA 92627.

Date Revoked: June 22, 2007.

Reason: Failed to maintain a valid bond.

License Number: 019319N.

Name: All American Logistics Inc.

Address: 145-32/34 157th Street, Jamaica, NY 11434.

Date Revoked: June 29, 2007.

Reason: Failed to maintain a valid bond.

License Number: 018197F.

Name: Cargozone, Inc.

Address: 1490 Beachey Pl., Carson, CA 90746.

Date Revoked: June 20, 2007.

Reason: Failed to maintain a valid bond.

License Number: 018772NF

Name: 1 Cross Island Plaza, Ste. 220, Rosedale, NY 11422.

Date Revoked: June 20, 2007.

Reason: Failed to maintain valid bonds.

License Number: 017783N.

Name: International Frontier Forwarders, Inc.

Address: 17101 Kuykendahl Rd., Ste. 255, Houston, TX 77068.

Date Revoked: June 22, 2007.

Reason: Failed to maintain a valid bond.

License Number: 016149F.

Name: Mid West Orient (New York) Ltd.

Address: 151 Summer Ave., Kenilworth, NJ 07033.

Date Revoked: June 21, 2007.

Reason: Failed to maintain a valid bond.

License Number: 003849F.

Name: Rock International Transport, Inc.

Address: 140 Eastern Avenue, Chelsea, MA 02150.

Date Revoked: June 30, 2007.

Reason: Failed to maintain a valid bond.

License Number: 017609N.

Name: Societe Monegasque De Transports Maritimes. (Somotransma) Dba Uni Container Line.

Address: 14 Ave., Crovetto, MC 98000 Monaco.

Date Revoked: June 30, 2007.

Reason: Failed to maintain a valid bond.

License Number: 003989N.

Name: Time Definite Services, Inc.

Address: 2551 Allan Drive, Elk Grove Village, IL 60007.

Date Revoked: June 22, 2007.

Reason: Failed to maintain a valid bond.

Sandra L. Kusumoto,
Director, Bureau of Certification, and Licensing.

[FR Doc. E7-13929 Filed 7-17-07; 8:45 am]

BILLING CODE 6730-01-P